NUCLEAR REGULATORY COMMISSION

[Docket No. 99902088; NRC-2022-0167]

Abilene Christian University

AGENCY: Nuclear Regulatory Commission.

ACTION: Construction permit application; receipt.

SUMMARY: The U.S. Nuclear Regulatory Commission (NRC) is providing public notice of receipt and availability of an application for a construction permit from Abilene Christian University (ACU). The construction permit application is dated August 12, 2022.

DATES: October 14, 2022.

ADDRESSES: Please refer to Docket ID NRC-2022-0167 when contacting the NRC about the availability of information regarding this document. You may obtain publicly available information related to this document using any of the following methods:

• Federal Rulemaking Website: Go to https://www.regulations.gov and search for Docket ID NRC-2022-0167. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern tme (ET), Monday through Friday, except Federal holidays.

FOR FURTHER INFORMATION CONTACT: Richard F. Rivera, Office of Nuclear Reactor Regulation, U.S. Nuclear Regulatory Commission, Washington, DC 20555-0001; telephone: 301-415-7190; email: Richard.Rivera@nrc.gov.

SUPPLEMENTARY INFORMATION:

I. Discussion

ACU filed with the NRC pursuant to Section 104c of the Atomic Energy Act and part 50 of title 10 of the Code of Federal Regulations (10 CFR), “Domestic Licensing of Production and Utilization Facilities,” an application dated August 12, 2022, for a construction permit for one research reactor proposed to be located in Abilene, Texas. The reactor is to be identified as the Molten Salt Research Reactor.

The application is available in ADAMS Package Accession No. ML22227A201, which includes the transmittal letter and the preliminary safety analysis report. The information submitted by the applicant includes certain administrative information, such as financial qualifications submitted pursuant to 10 CFR 50.33, “Contents of applications; general information,” as well as technical information submitted pursuant to 10 CFR 50.34, “Contents of applications; technical information.” The environmental report was also submitted as part of the preliminary safety analysis report.

The NRC staff is currently undertaking its acceptance review of the application. If the application is accepted for docketing, subsequent Federal Register notices will be issued that address the acceptability of the tendered construction permit application for docketing and provisions for participation of the public in the permitting process.

Dated: October 7, 2022.
For the Nuclear Regulatory Commission.
Richard F. Rivera,
Project Manager, Advanced Reactor Licensing Branch, Division of Advanced Reactors and Non-Power Production and Utilization Facilities, Office of Nuclear Reactor Regulation.

[FR Doc. 2022-22294 Filed 10-13-22; 8:45 am]

BILLING CODE 7590-01-P